DEPARTMENT OF HEALTH AND HUMAN SERVICES

Administration on Aging

Announcement on Tribal Consultation With American Indian/Alaskan Native Tribal Representatives

The Department of Health and Human Services policy on consultation with American Indian/Alaska Native (AI/AN) Governments and Organizations calls for each OPDIV to convene a meeting with AI/AN Tribal Representatives.

In accordance with Departmental policy on Tribal Consultation with AI/AN Governments and Organizations, the Administration on Aging will be hosting a one day session to give AI/AN Tribal Representatives and their Title VI Director an opportunity to discuss Indian elder issues related to (1) Policy Directions; (2) Capacity Building; (3) Long-Term Care; and (4) Health Care and to develop recommendations to be presented to the Assistant Secretary for Aging.

This Tribal Listening Session will be held from 9 am to 4 pm on August 8, 2000 at: Hubert Humphrey Building; 200 Independence Avenue, SW, Washington, DC 20201.

A final agenda will be distributed at the meeting when you sign in.

To register and for additional information please contact: M. Yvonne Jackson, Ph.D., Director, Office for American Indian, Alaskan Native and Native Hawaiian Programs, Administration on Aging, 330 Independence Ave., SW, Washington, DC 20201, (202) 619-2713, Email: Yvonne.Jackson@aoa.gov.

Purpose: In accordance with Departmental policy on consultation with (AI/AN) Governments and Organizations, AoA will host this meeting to give AI/AN Tribal Representatives an opportunity to discuss the four above mentioned areas and develop recommendations to present to the Assistant Secretary on Aging.

Date and Time: August 8, 2000, 9 am-4 pm EST.

Matters to be Discussed: The agenda will include opening remarks/break-out sessions to discuss the four above mentioned areas, a general session, open comment time and closing remarks.

If you are unable to attend but wish to provide comments or Tribal Resolutions these may be faxed to M. Yvonne Jacksons attention at (202) 260-1012.

Dated: July 11, 2000.
Jeanette C. Takamura,
Assistant Secretary for Aging.

[FR Doc. 00-17920 Filed 7-14-00; 8:45 am]

BILLING CODE 4150-01-P